DEPARTMENT OF THE INTERIOR

National Park Service

[N6503; NPS-WASO-NAGPRA-NPS0041045; PPWOCRADN0-PCU00RP14.R50000]

Notice of Intended Disposition: U.S Department of Agriculture, Forest Service, Ozark-St. Francis National Forests, Russellville, AR

AGENCY: National Park Service, Interior.

ACTION: Notice.

SUMMARY: In accordance with the Native American Graves Protection and Repatriation Act (NAGPRA), the U.S Department of Agriculture, Forest Service, Ozark-St. Francis National Forests intends to carry out the disposition of objects of cultural patrimony removed from Federal or Tribal lands to the Indian Tribe with priority for disposition in this notice.

DATES: Disposition of the cultural items in this notice may occur on or after October 14, 2025. If no claim for disposition is received by September 14, 2026, the cultural items in this notice will become unclaimed cultural items.

ADDRESSES: Send written claims for disposition of the cultural items in this notice to Dan Olsen, Forest Supervisor, Ozark-St. Francis National Forests, 605 W Main Street, Russellville, AR 72801, email daniel.olsen@usda.gov.

SUPPLEMENTARY INFORMATION: This notice is published as part of the National Park Service's administrative responsibilities under NAGPRA. The determinations in this notice are the sole responsibility of the Ozark-St. Francis National Forests, and additional information on the human remains or cultural items in this notice, including the results of consultation, can be found in the related records. The National Park Service is not responsible for the identifications in this notice.

Abstract of Information Available

The two objects of cultural patrimony identified by The Osage Nation are an articulated hawk leg and a worked strip of cedar. The articulated hawk leg was removed during excavations from site 3PP0402 in Pope County, Arkansas in 1993. Based upon diagnostic artifacts found at the site, 3PP0402 was occupied from A.D. 700 to 1500. The worked strip of cedar was removed from site 3NW0408 in Newton County, Arkansas in 2005. Occupation of site 3NW0408 reportedly dates from 2000 B.C. to A.D. 1600.

Determinations

The Ozark-St. Francis National Forests has determined that:

• The two objects of cultural patrimony described in this notice have ongoing historical, traditional, or cultural importance central to the Native American group, including any constituent sub-group (such as a band, clan, lineage, ceremonial society, or other subdivision), according to the Native American traditional knowledge of an Indian Tribe or Native Hawaiian organization.

• The Osage Nation has priority for disposition of the cultural items described in this notice.

Claims for Disposition

Written claims for disposition of the cultural items in this notice must be sent to the appropriate official identified in this notice under ADDRESSES. If no claim for disposition is received by September 14, 2026, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after October 14, 2025. If competing claims for disposition are received, the Ozark-St. Francis National Forests must determine the most appropriate claimant prior to disposition. Requests for joint disposition of the cultural items are considered a single request and not competing requests. The Ozark-St. Francis National Forests is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 29, 2025.
Melanie O'Brien,
Manager, National NAGPRA Program.

[FR Doc. 2025-17613 Filed 9-11-25; 8:45 am]

BILLING CODE 4312-52-P